COMMISSION ON CIVIL RIGHTS

Sunshine Act Meeting

AGENCY: Commission on Civil Rights.

DATE AND TIME: Friday, June 20, 2003, 9:30 a.m.

PLACE: U.S. Commission on Civil Rights, 624 Ninth Street, NW., Room 540, Washington, DC 20425.

Agenda

I. Approval of Agenda

II. Approval of Minutes of May 9, 2003 Meeting

III. Closed Meeting to Discuss Personnel Matter

IV. Staff Director's Report

V. Staff Director's Report

VI. State Advisory Committee Report: Civil Rights Concerns in the Metropolitan Washington, DC Area in the Aftermath of the September 11, 2001, Tragedies (Washington, DC, Maryland, and Virginia)

VII. Ten-Year Check-Up: Have Federal Agencies Responded to Civil Rights Recommendations?: Volume III

IX. Briefing on Racial and Cross-National Disparities in Prisoner Incarceration Rates

X. Future Agenda Items

CONTACT PERSON FOR FURTHER INFORMATION: Les Jin, Press and Communications, (202) 376-7700.

Debra A. Carr,
Deputy General Counsel.

[FR Doc. 03-15063 Filed 6-10-03; 4:00 pm]

BILLING CODE 6335-01-M